DEPARTMENT OF THE INTERIOR

Fish and Wildlife Service

50 CFR Part 16

[Docket No. FWS-R9-FHC-2009-0093; 94140-1342-0000-N5]

RIN 1018-AX05

Injurious Wildlife Species; Review of Information Concerning a Petition To List All Live Amphibians in Trade as Injurious Unless Free of Batrachochytrium dendrobatidis

AGENCY: Fish and Wildlife Service, Interior.

ACTION: Notice of inquiry.

SUMMARY: We, the U.S. Fish and Wildlife Service (Service), are reviewing a petition to list, under the Lacey Act, all live amphibians or their eggs in trade as injurious unless certified as free of Batrachochytrium dendrobatidis (chytrid fungus). The importation and introduction of live amphibians infected with chytrid fungus into the natural ecosystems of the United States may pose a threat to interests of agriculture, horticulture, forestry, or to wildlife or the wildlife resources of the United States. An injurious wildlife listing would prohibit the importation of live amphibians or their eggs infected with chytrid fungus into, or transportation between, States, the District of Columbia, the Commonwealth of Puerto Rico, or any territory or possession of the United States by any means, without a permit. We may issue permits for scientific, medical, educational, or zoological purposes. This document seeks information from the public to aid in determining if a proposed rule is warranted.

DATES: We will consider information received or postmarked on or before December 16, 2010.

ADDRESSES: You may submit comments by one of the following methods:

• Federal eRulemaking Portal: http://www.regulations.gov. Follow the instructions for submitting comments to Docket No. FWS-R9-FHC-2009-0093.

• U.S. mail or hand-delivery: Public Comments Processing, Attn: Docket No. FWS-R9-FHC-2009-0093, Division of Policy and Directives Management, U.S. Fish and Wildlife Service, 4401 North Fairfax Drive, Suite 222, Arlington, VA 22203.

FOR FURTHER INFORMATION CONTACT: Susan Jewell, Branch of Aquatic Invasive Species, U.S. Fish and Wildlife Service, MS 770, 4401 N. Fairfax Drive, Arlington, VA 22203; telephone 703-358-2416. If you use a telecommunications device for the deaf (TDD), call the Federal Information Relay Service (FIRS) at 800-877-8339.

SUPPLEMENTARY INFORMATION: On September 9, 2009, Department of the Interior Secretary Ken Salazar received a petition from the Defenders of Wildlife requesting that live amphibians or their eggs in trade be considered for inclusion in the injurious wildlife regulations (50 CFR part 16) under the Lacey Act (18 U.S.C. 42) unless they are free of Batrachochytrium dendrobatidis (chytrid fungus). The Defenders of Wildlife is concerned that unregulated trade—primarily for pet use and as live animals for consumption as frog legs—continues to threaten the survival of many amphibian species, including domestic and foreign species listed by the Service under the Endangered Species Act of 1973 as amended (ESA; 16 U.S.C. 1531 et seq.), candidate species, and other species.

Specifically, the petition to Secretary Salazar proposes the following revision to the Service regulations at 50 CFR 16.14.

Importation of live amphibians or their eggs. All live amphibians and their eggs are prohibited entry into the United States, or to be exported from the United States, or transported in interstate commerce, for any purposes, except in compliance with this section. Upon the filing of a written declaration with the District Director of Customs at the port of entry as required under § 14.61, species of live amphibians or their eggs may be imported, transported, and possessed in captivity only if the shipment complies with a certification and handling system that meets or exceeds recommendations of the World Organization for Animal Health in its Aquatic Animal Health Code on Batrachochytrium dendrobatidis. No such live amphibians or any progeny or eggs thereof may be released into the wild except by the State wildlife conservation agency having jurisdiction over the area of release or by persons having prior written permission for release from such agency. All live amphibians and their eggs are prohibited from interstate commerce in the United States and from export out of the United States unless in a shipment accompanied by a written declaration, in such form as the Director of the Fish and Wildlife Service shall provide, which indicates the shipment meets or exceeds the recommendations of the World Organization for Animal Health in its Aquatic Animal Health Code on Batrachochytrium dendrobatidis.

We are seeking information on the importation and transportation of live amphibians or their eggs and chytrid fungus (also known as chytridiomycosis) for possible addition to the injurious wildlife list under the Lacey Act.

The regulations contained in 50 CFR part 16 implement the Lacey Act. Under the terms of the injurious wildlife provisions of the Lacey Act, the Secretary of the Interior is authorized to prohibit the importation and interstate transportation of species designated by the Secretary as injurious. Injurious wildlife are those species, offspring, and eggs that are injurious or potentially injurious to wildlife or wildlife resources, to human beings, or to the interests of forestry, horticulture, or agriculture of the United States. Wild mammals, wild birds, fish, mollusks, crustaceans, amphibians, and reptiles are the only organisms that can be added to the injurious wildlife list. The lists of injurious wildlife are provided at 50 CFR 16.11-16.15. If the process initiated by this notice results in the addition of a species to the list of injurious wildlife contained in 50 CFR part 16, their importation into or transportation between States, the District of Columbia, the Commonwealth of Puerto Rico, or any territory or possession of the United States would be prohibited, except by permit for zoological, educational, medical, or scientific purposes (in accordance with permit regulations at 50 CFR 16.22), or by Federal agencies without a permit solely for their own use.

Public Comments

This notice of inquiry requests biological, economic, or other data regarding the addition of live amphibians as injurious unless free of Batrachochytrium dendrobatidis (chytrid fungus) to the list of injurious wildlife. This information, along with other sources of data, will be used to determine if live amphibians or their eggs that are infected with Batrachochytrium dendrobatidis are a threat, or potential threat, to those interests of the United States delineated above, and thus warrant addition to the list of injurious wildlife in 50 CFR 16.14.

You may submit your information and materials concerning this notice of inquiry by one of the methods listed in the ADDRESSES section. If you submit a comment via http://www.regulations.gov, your entire comment, including any personal identifying information, will be posted on the Web site. If you submit a hardcopy comment that includes personal identifying information, you may request at the top of your document that we withhold this information from public review. However, we cannot guarantee that we will be able to do so. We will post all hardcopy comments on http://www.regulations.gov.

Comments and materials we receive, as well as supporting documentation we used in preparing this notice of inquiry, will be available for public inspection on http://www.regulations.gov, or by appointment, during normal business hours, at the U.S. Fish and Wildlife Service, Room 770, 4401 North Fairfax Drive, Arlington, VA 22203.

We are soliciting information and supporting data from the public to gain substantive information, and we specifically seek information on the following questions regarding the importation of live amphibians and their eggs infected with Batrachochytrium dendrobatidis (chytrid fungus):

(1) What Federal, State, or tribal regulations exist to prevent the spread of chytrid fungus?

(2) Are there any known mechanisms in the United States to test for, control, or regulate movement or interstate transport of chytrid fungus?

(3) How many businesses import live amphibians or their eggs into the United States?

(4) How many businesses sell live amphibians or their eggs for interstate commerce?

(5) What are the annual sales of these imported live amphibians and their eggs?

(6) What species of amphibians, fish, or other class of animal have been affected by chytrid fungus in the United States and how were they infected?

(7) What are the current and potential effects to species listed as threatened or endangered under the ESA that are contaminated with chytrid fungus?

(8) What are the potential costs of recovering threatened or endangered species affected by chytrid fungus?

(9) What is the likelihood that wild amphibians would be affected by the importation of live amphibians or their eggs that harbor chytrid fungus?

(10) What would it cost to eradicate chytrid fungus?

(11) Are there any potential benefits to allowing the chytrid fungus pathogen to be imported?

(12) What is the potential for the industries that conduct trade in amphibians to self-police through voluntary best practices; for example, how successful is the “Bd-Free `Phibs Campaign” sponsored by the Pet Industry Joint Advisory Council?

(13) What peer-reviewed methods for detecting chytrid fungus have been published?

(14) Are there any other comments or information regarding the listing of live amphibians as injurious unless free of chytrid fungus?

Dated: September 10, 2010.
Thomas L. Strickland,
Assistant Secretary for Fish and Wildlife and Parks.

[FR Doc. 2010-23039 Filed 9-16-10; 8:45 am]

BILLING CODE 4310-55-P